Title 3—

The President

Proclamation 8334 of December 31, 2008

To Extend Duty-Free Treatment for Certain Agricultural Products of Israel and for Other Purposes

By the President of the United States of America

A Proclamation

1. On April 22, 1985, the United States and Israel entered into the Agreement on the Establishment of a Free Trade Area between the Government of the United States of America and the Government of Israel (USIFTA), which the Congress approved in the United States-Israel Free Trade Area Implementation Act of 1985 (the “USIFTA Act”) (19 U.S.C. 2112 note).

2. In order to maintain the general level of reciprocal and mutually advantageous concessions with respect to agricultural trade with Israel, on July 27, 2004, the United States entered into an agreement with Israel concerning certain aspects of trade in agricultural products during the period January 1, 2004, through December 31, 2008 (the “2004 Agreement”). The 2004 Agreement reflects an effort by the United States and Israel to address, through 2008, their continuing differences over the meaning of certain provisions in the USIFTA governing access for U.S. agricultural products to Israel’s market.

3. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties as the President determines to be required or appropriate to carry out the USIFTA.

4. In Proclamation 7826 of October 4, 2004, consistent with the 2004 Agreement, I proclaimed modifications to the Harmonized Tariff Schedule of the United States (HTS) to provide duty-free access into the United States through December 31, 2008, for specified quantities of certain agricultural products of Israel.

5. On December 10, 2008, the United States entered into an agreement with Israel to extend the period that the 2004 Agreement is in force through December 31, 2009, to allow additional time for the two governments to conclude an agreement to replace the 2004 Agreement.

6. Pursuant to section 4(b) of the USIFTA Act, I have determined that it is necessary, in order to maintain the general level of reciprocal and mutually advantageous concessions with respect to Israel provided for by the USIFTA, to provide duty-free access into the United States through the close of December 31, 2009, for specified quantities of certain agricultural products of Israel.

7. On June 6, 2003, the United States and Chile entered into the United States-Chile Free Trade Agreement (USCFTA). The Congress approved the USCFTA in section 101(a) of the United States-Chile Free Trade Agreement Implementation Act (the “USCFTA Act”) (19 U.S.C. 3805 note). In Proclamation 7746 of December 30, 2003, I proclaimed the tariff treatment called for under the USCFTA.

8. Section 201(b) of the USCFTA Act authorizes the President, subject to the consultation and layover requirements of section 103(a) of the USCFTA Act, to proclaim such modifications to the staging of duty treatment set forth in Annex 3.3 of the USCFTA as the United States may agree to with Chile, as the President determines to be necessary or appropriate to maintain the general level of reciprocal and mutually advantageous concessions with respect to Chile provided for by the USCFTA.

9. On November 26, 2008, the United States entered into an agreement with Chile that includes an accelerated schedule of duty elimination under the USCFTA for specific originating goods of Chile. The consultation and layover requirements of section 103(a) of the USCFTA Act with respect to the accelerated schedule of duty elimination were satisfied as of November 8, 2008.

10. Pursuant to section 201(b) of the USCFTA Act, I have determined that modifications hereinafter proclaimed of rates of duties on originating goods of Chile are necessary or appropriate to maintain the general level of reciprocal and mutually advantageous concessions with respect to Chile provided for by the USCFTA and to carry out the agreement with Chile on an accelerated schedule of duty elimination for specific originating goods of Chile.

11. On May 18, 2004, the United States and Australia entered into the United States-Australia Free Trade Agreement (USAFTA). The Congress approved the USAFTA in section 101(a) of the United States-Australia Free Trade Agreement Implementation Act (the “USAFTA Act”) (19 U.S.C. 3805 note). In Proclamation 7857 of December 20, 2004, I proclaimed the rules of origin called for under the USAFTA.

12. Section 203(o) of the USAFTA Act authorizes the President, subject to the consultation and layover requirements of section 104 of the USAFTA Act, to proclaim such modifications to the rules of origin as are necessary to implement an agreement with Australia pursuant to article 4.2.5 of the USAFTA.

13. On October 10, 2008, the United States entered into an agreement with Australia pursuant to article 4.2.5 of the USAFTA to amend the USAFTA rule of origin for certain yarns of viscose rayon fiber. The consultation and layover requirements of section 104 of the USAFTA Act with respect to the proposed modification of the USAFTA rules of origin were satisfied as of December 24, 2008.

14. Section 604 of the Trade Act of 1974, as amended (the “1974 Act”) (19 U.S.C. 2483), authorizes the President to embody in the HTS the substance of relevant provisions of that Act, or other acts affecting import treatment, and of actions taken thereunder.

NOW, THEREFORE, I, GEORGE W. BUSH, President of the United States of America, acting under the authority vested in me by the Constitution and the laws of the United States of America, including section 4 of the USIFTA Act, section 201(b) of the USCFTA Act, section 203(o) of the USAFTA Act, section 604 of the 1974 Act, and section 301 of title 3, United States Code, do proclaim that:

(1) In order to implement U.S. tariff commitments under the 2004 Agreement through December 31, 2009, the HTS is modified as provided in Annex I to this proclamation.

(2)(a) The modifications to the HTS made by Annex I to this proclamation shall be effective with respect to goods that are the product of Israel and are entered, or withdrawn from warehouse for consumption, on or after January 1, 2009.

(b) The provisions of subchapter VIII of chapter 99 of the HTS, as modified by Annex I to this proclamation, shall continue in effect through December 31, 2009.

(3) In order to provide for an accelerated schedule of duty elimination for specific originating goods of Chile, the tariff treatment set forth in the HTS is modified as provided in Annex II to this proclamation.

(4) The modifications made to the HTS by Annex II to this proclamation shall be effective with respect to goods entered, or withdrawn from warehouse for consumption, on or after January 1, 2009.

(5) In order to implement the agreement with Australia to change the USAFTA rules of origin for certain yarns of viscose rayon fiber, the HTS is modified as provided in Annex III to this proclamation.

(6) The modifications made to the HTS by Annex III to this proclamation shall enter into effect on the date that the United States Trade Representative announces in a notice published in the Federal Register that Australia has completed its applicable domestic procedures to give effect to the agreement to change the USAFTA rules of origin for certain yarns of viscose rayon fiber and shall be effective with respect to originating goods of Australia entered, or withdrawn from warehouse for consumption, on or after the date indicated in the notice.

(7) Any provisions of previous proclamations and Executive Orders that are inconsistent with the actions taken in this proclamation are superseded to the extent of such inconsistency.

IN WITNESS WHEREOF, I have hereunto set my hand this thirty-first day of December, in the year of our Lord two thousand eight, and of the Independence of the United States of America the two hundred and thirty-third.

Billing code 3195-W9-P

[FR Doc. E9-115

Filed 1-6-09; 8:45 am]

Billing code 7020-02-C